DEPARTMENT OF THE INTERIOR

National Park Service

[NPS-WASO-NRNHL-17934; PPWOCRADI0, PCU00RP14.R50000]

National Register of Historic Places; Notification of Pending Nominations and Related Actions

Nominations for the following properties being considered for listing or related actions in the National Register were received by the National Park Service before March 21, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 29, 2015. Before including your address, phone number, email address, or other personal identifying information in your comment, you should be aware that your entire comment—including your personal identifying information—may be made publicly available at any time. While you can ask us in your comment to withhold your personal identifying information from public review, we cannot guarantee that we will be able to do so.

Dated: March 26, 2015.
J. Paul Loether,
Chief, National Register of Historic Places/National Historic Landmarks Program.

IOWA

Fayette County

West Union Commercial Historic District, (Iowa's Main Street Commercial Architecture MPS), Roughly bounded by N. & S. Vine, Main, Walnut & Plum Sts., West Union, 15000191

Polk County

Allerman, Richard L. and Verda M., Farm Historic District, 2701 NW. 158th Ave., Slater, 15000192

Sac County

Sac City Monument Square Historic District, 400 W. Main St., Sac City, 15000193

Scott County

Oakdale Cemetery Historic District, 2501 Eastern Ave., Davenport, 15000194

MASSACHUSETTS

Suffolk County

Boston National Historical Park, Charlestown Navy Yard, Boston, 15000195

MISSOURI

Caldwell County

Moore's Mill Battlefield, Address Restricted, Calwood, 15000196

St. Louis Independent City

Beckley—Ralston Company, (Auto-Related Resources of St. Louis, Missouri MPS), 3306-3314 Washington Blvd., St. Louis (Independent City), 15000197

Kellerman Motor Car Company, (Auto-Related Resources of St. Louis, Missouri MPS), 3318-3322 Washington Blvd., St. Louis (Independent City), 15000198

Remington Rand Building, 4100 Lindell Blvd., St. Louis (Independent City), 15000199

NEW MEXICO

Lincoln County

Mesa Ranger Station, NF Rd. 131, Nogal, 15000200

NORTH CAROLINA

Anson County

Westview Cemetery, W. of Madison Ave., S. of Henry St., Wadesboro, 15000201

Cleveland County

United States Post Office, 100 E. Mountain St., Kings Mountain, 15000202

SOUTH DAKOTA

Hughes County

South Dakota State Capitol Complex (Boundary Decrease), 500 E. Capitol Ave., Pierre, 15000203.

[FR Doc. 2015-08500 Filed 4-13-15; 8:45 am]

BILLING CODE 4312-51-P